DEPARTMENT OF COMMERCE

International Trade Administration

[A-570-092]

Mattresses From the People's Republic of China: Rescission of Antidumping Duty Administrative Review; 2022-2023

AGENCY: Enforcement and Compliance, International Trade Administration, Department of Commerce.

SUMMARY: The U.S. Department of Commerce (Commerce) is rescinding the administrative review of the antidumping duty order on mattresses from the People's Republic of China (China) for the period of review (POR) December 1, 2022, through November 30, 2023.

DATES: Applicable July 30, 2024.

FOR FURTHER INFORMATION CONTACT: Stephen Bailey AD/CVD Operations, Office IV, Enforcement and Compliance, International Trade Administration, U.S. Department of Commerce, 1401 Constitution Avenue NW, Washington, DC 20230; telephone: (202) 482-2972.

SUPPLEMENTARY INFORMATION:

Background

On December 16, 2019, Commerce published in the Federal Register the antidumping duty order on mattresses from China.¹ On December 1, 2023, Commerce published in the Federal Register a notice of opportunity to request an administrative review of the Order.² On December 29, 2023, Commerce received a timely request from domestic interested parties Corsicana Mattress Company, Future Foam Inc., FXI, Inc., Kolcraft Enterprises Inc., Leggett & Platt, Incorporated, Serta Simmons Bedding, LLC, and Tempur Sealy International, Inc. (collectively, the petitioners), in accordance with 19 CFR 351.213(b)(1), to conduct an administrative review of the Order for 44 companies.³

¹ See Mattresses from the People's Republic of China: Antidumping Duty Order, 84 FR 68395 (December 16, 2019) (Order).

² See Antidumping or Countervailing Duty Order, Finding, or Suspended Investigation; Opportunity to Request Administrative Review and Join Annual Inquiry Service List, 88 FR 83917 (December 1, 2023).

³ See Petitioners' Letter, “Request for Administrative Review of Antidumping Order,” dated December 29, 2023.

On February 8, 2024, Commerce published in the Federal Register a notice of initiation of administrative review with respect to imports of mattresses exported by 44 companies, in accordance with section 751(a) of the Tariff Act of 1930, as amended (the Act), and 19 CFR 351.221(c)(1)(i).⁴ On February 27, 2024, we placed on the record U.S. Customs and Border Protection (CBP) data for entries of mattresses from China during the POR, showing no reviewable POR entries and invited interested parties to comment.⁵ No interested party submitted comments to Commerce regarding the CBP data.

⁴ See Initiation of Antidumping and Countervailing Duty Administrative Reviews, 89 FR 8641 (February 8, 2024) (Initiation Notice).

⁵ See Memorandum, “Release of Customs and Border Protection Data,” dated February 27, 2024.

On April 2, 2024, Commerce notified all interested parties of its intent to rescind the instant review in full because there were no reviewable, suspended entries of subject merchandise by any of the 44 companies listed in the Initiation Notice during the POR and invited interested parties to comment.⁶ No interested party submitted comments to Commerce in response to this notice.

⁶ See Memorandum, “Notice of Intent to Rescind Review,” dated April 2, 2024.

Rescission of Review

Pursuant to 19 CFR 351.213(d)(3), it is Commerce's practice to rescind an administrative review of an antidumping duty order when there are no reviewable entries of subject merchandise during the POR for which liquidation is suspended.⁷ Normally, upon completion of an administrative review, the suspended entries are liquidated at the antidumping duty assessment rate calculated for the review period.⁸ Therefore, for an administrative review to be conducted, there must be a reviewable, suspended entry that Commerce can instruct CBP to liquidate at the antidumping duty assessment rate calculated for the review period.⁹ As noted above, there were no entries of subject merchandise for any of the 44 companies listed in the Initiation Notice during the POR. Accordingly, in the absence of suspended entries of subject merchandise during the POR, we are hereby rescinding this administrative review, in its entirety, in accordance with 19 CFR 351.213(d)(3).

⁷ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023); and Lightweight Thermal Paper from Japan: Rescission of Antidumping Administrative Review; 2022-2023, 89 FR 18373 (March 13, 2024).

⁸ See 19 CFR 351.212(b)(1).

⁹ See 19 CFR 351.213(d)(3).

Assessment

Commerce will instruct CBP to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This notice is issued and published in accordance with sections 751(a)(1) and 777(i)(1) of the Act, and 19 CFR 351.213(d)(4).

Dated: July 24, 2024.
Scot Fullerton,
Acting Deputy Assistant Secretary for Antidumping and Countervailing Duty Operations.

[FR Doc. 2024-16758 Filed 7-29-24; 8:45 am]

BILLING CODE 3510-DS-P